DEPARTMENT OF HEALTH AND HUMAN SERVICES

Health Resources and Services Administration

Notice of Non-Competitive, Supplemental Funding Award for Ryan White HIV/AIDS Program, Special Projects of National Significance

AGENCY: Health Resources and Services Administration (HRSA), HHS.

ACTION: Notice.

SUMMARY: This non-competitive award will provide Secretary's Minority AIDS Initiative Fund (SMAIF) supplemental funding to the Jurisdictional Approach to Curing Hepatitis C among HIV/HCV Coinfected People of Color—Evaluation and Technical Assistance Center (ETAC), RAND Corporation. This supplemental funding will allow RAND Corporation to provide evaluation and technical assistance to cooperative agreement recipients and subrecipient clinical sites under HRSA-17-047 Curing Hepatitis C among People of Color Living with HIV.

SUPPLEMENTARY INFORMATION:

Intended Recipient of the Award: RAND Corporation (U90HA30519).

Amount of Non-Competitive Award: Up to $250,000 per year for 3 years (pending availability of future year funding).

Period of Funding: September 30, 2017, through September 29, 2020.

CFDA Number: No. 93.928.

Authority: The Consolidated Appropriations Act, 2017 (Pub. L. 115-31), Division H, Title II.

Justification: In fiscal year (FY) 2016, the SMAIF Curing Hepatitis C among People of Color Living with HIV initiative was launched through three funding opportunities: (1) Jurisdictional Approach to Curing Hepatitis C among HIV/HCV Co-infected People of Color—Jurisdictional Sites (HRSA-16-189) and (2) Jurisdictional Approach to Curing Hepatitis C among HIV/HCV Coinfected People of Color—State Health Departments Coordinating Center (HRSA-16-195) to provide HIV primary medical care to low income, uninsured, and underserved people living with both HIV and hepatitis C virus (HCV); and (3) Jurisdictional Approach to Curing Hepatitis C among HIV/HCV Coinfected People of Color—ETAC (HRSA-16-188) to provide evaluation and technical assistance to the funded sites. In FY17, HRSA-17-047 was announced to improve HCV prevention and care; improve coordination to linkage and retention in care; and enhance capacity of health department surveillance systems to monitor HIV/HCV coinfections among low-income or underinsured, racial and ethnic minority populations. HRSA-17-047 recipients and subrecipients will require similar evaluation and technical assistance in order to meet the program's goals and objectives. Supplemental funding to the existing ETAC is a cost effective and efficient solution that will leverage RAND Corporation's currently funded infrastructure to include the additional sites funded under HRSA-17-047. Further, this supplemental funding will leverage RAND's current work by combining and comparing evaluation results across all jurisdictions from both initiatives and facilitate the streamlining and integration of processes and technical assistance. Supplemental funding will also provide opportunities for RAND Corporation to create joint learning networks and build on lessons learned from the initial cohort of jurisdictional sites currently in the second year of implementation. Not issuing this award would result in a lack of evaluation and technical assistance for HRSA-17-047 recipients and subrecipients, which is critical to achieving the initiative's goal to cure HCV among HIV/HCV coinfected people of color.

FOR FURTHER INFORMATION CONTACT: Mr. Adan Cajina, Chief, Demonstration Evaluation Branch, Office of Training and Capacity Development, Division of HIV Domestic Programs, HIV/AIDS Bureau, HRSA, 5600 Fishers Lane, 09N108, Rockville, MD 20857, Phone: (301) 443-3180, Email: acajina@hrsa.gov.

Dated: September 19, 2017.
George Sigounas,
Administrator.

[FR Doc. 2017-20544 Filed 9-25-17; 8:45 am]

BILLING CODE 4165-15-P